DEPARTMENT OF ENERGY

Federal Energy Regulatory Commission

Combined Notice of Filings #1

Take notice that the Commission received the following electric rate filings:

Docket Numbers: ER10-2265-015; ER10-1575-013; ER10-1581-021 ER10-2262-009; ER10-2791-015; ER10-2792-015; ER10-2876-015; ER10-2931-015; ER11-2508-023; ER11-2805-023; ER11-3418-002; ER11-4307-024; ER11-4308-024; ER12-2413-013; ER12-261-023; ER13-1965-014; ER14-1818-015; ER18-1160-002.

Applicants: NRG Power Marketing LLC, Bayou Cove Peaking Power LLC, Cottonwood Energy Company LP, El Segundo Power, LLC, Energy Alternatives Wholesale, LLC, GenOn Energy Management, LLC, Green Mountain Energy Company, Independence Energy Group LLC, Long Beach Peakers LLC, Louisiana Generating LLC, NRG Cottonwood Tenant LLC, NRG Sterlington Power LLC, NRG Wholesale Generation LP, Reliant Energy Northeast LLC, RRI Energy Services, LLC, XOOM Energy, LLC, Boston Energy Trading and Marketing LLC, Big Cajun I Peaking Power LLC.

Description: Updated Market Power Analysis of the NRG Central MBR Sellers.

Filed Date: 6/29/18.

Accession Number: 20180629-5215.

Comments Due: 5 p.m. ET 8/28/18.

Docket Numbers: ER10-2738-006.

Applicants: The Empire District Electric Company.

Description: Updated Market Power Analysis of The Empire District Electric Company.

Filed Date: 6/29/18.

Accession Number: 20180629-5310.

Comments Due: 5 p.m. ET 8/28/18.

Docket Numbers: ER10-2739-023; ER10-1892-010; ER10-1936-006 ER16-1652-011.

Applicants: LS Power Marketing, LLC, Carville Energy, LLC, Columbia Energy LLC, LifeEnergy LLC.

Description: Updated Market Power Analysis Notification of the LS Central MBR Sellers.

Filed Date: 6/29/18.

Accession Number: 20180629-5201.

Comments Due: 5 p.m. ET 8/28/18.

Docket Numbers: ER11-3418-003.

Applicants: XOOM Energy, LLC.

Description: Notification of Change in Status of XOOM Energy, LLC.

Filed Date: 6/29/18.

Accession Number: 20180629-5312.

Comments Due: 5 p.m. ET 7/20/18.

Docket Numbers: ER14-2144-008; ER10-2178-033; ER10-2192-033 ER11-2009-025; ER11-2011-025; ER11-3989-021 ER12-2201-016; ER12-2311-016; ER13-1536-017.

Applicants: Beebe 1B Renewable Energy, LLC, Beebe Renewable Energy, LLC, Constellation Energy Commodities Group Maine, LLC, Constellation NewEnergy, Inc., Exelon Generation Company, LLC, Harvest II Windfarm, LLC, Harvest WindFarm, LLC, Michigan Wind 1, LLC, Michigan Wind 2, LLC.

Description: Updated Market Power Analysis for the Central Region of the Exelon Central Entities.

Filed Date: 6/29/18.

Accession Number: 20180629-5160.

Comments Due: 5 p.m. ET 8/28/18.

Docket Numbers: ER18-1889-000.

Applicants: New York Independent System Operator, Inc.

Description: Request for Limited Tariff Waiver and Expedited Action of New York Independent System Operator, Inc.

Filed Date: 6/29/18.

Accession Number: 20180629-5112.

Comments Due: 5 p.m. ET 7/9/18.

Docket Numbers: ER18-1894-000.

Applicants: Keystone Power LLC.

Description: § 205(d) Rate Filing: Reactive Service Rate Schedule Filings, Request for Waiver and Expedited Action to be effective 8/1/2018.

Filed Date: 6/29/18.

Accession Number: 20180629-5197.

Comments Due: 5 p.m. ET 7/20/18.

Docket Numbers: ER18-1895-000.

Applicants: Conemaugh Power LLC.

Description: § 205(d) Rate Filing: Reactive Service Rate Schedule Filings, Request for Waiver and Expedited Action to be effective 8/1/2018.

Filed Date: 6/29/18.

Accession Number: 20180629-5200.

Comments Due: 5 p.m. ET 7/20/18.

Docket Numbers: ER18-1896-000.

Applicants: NRG Power Marketing LLC.

Description: § 205(d) Rate Filing: Reactive Service Rate Schedule Filing, Request for Waiver and Expedited Action to be effective 8/1/2018.

Filed Date: 6/29/18.

Accession Number: 20180629-5204.

Comments Due: 5 p.m. ET 7/20/18.

Docket Numbers: ER18-1897-000.

Applicants: Southwest Power Pool, Inc.

Description: § 205(d) Rate Filing: 1976R7 FreeState Electric Cooperative, Inc. NITSA and NOA to be effective 9/1/2018.

Filed Date: 6/29/18.

Accession Number: 20180629-5218.

Comments Due: 5 p.m. ET 7/20/18.

Docket Numbers: ER18-1898-000.

Applicants: Southwest Power Pool, Inc.

Description: § 205(d) Rate Filing: 1534R8 Kansas Municipal Energy Agency NITSA NOA to be effective 6/1/2018.

Filed Date: 6/29/18.

Accession Number: 20180629-5221.

Comments Due: 5 p.m. ET 7/20/18.

Docket Numbers: ER18-1899-000.

Applicants: Midcontinent Independent System Operator, Inc.

Description: § 205(d) Rate Filing: 2018-06-29_Filing of Pro Forma Pseudo-Tie Agreement + related tariff provisions to be effective 8/29/2018.

Filed Date: 6/29/18.

Accession Number: 20180629-5238.

Comments Due: 5 p.m. ET 7/20/18.

Docket Numbers: ER18-1900-000.

Applicants: FPL Energy New Mexico Wind, LLC.

Description: Tariff Cancellation: FPL Energy New Mexico Wind, LLC Notice of Cancellation of MBR Tariff to be effective 6/30/2018.

Filed Date: 6/29/18.

Accession Number: 20180629-5241.

Comments Due: 5 p.m. ET 7/20/18.

Docket Numbers: ER18-1901-000.

Applicants: Massachusetts Electric Company.

Description: § 205(d) Rate Filing: Cost Reimbursement Agreement with Gas Recovery Systems & Expedited Order Request to be effective 6/27/2018.

Filed Date: 6/29/18.

Accession Number: 20180629-5242.

Comments Due: 5 p.m. ET 7/20/18.

Docket Numbers: ER18-1902-000.

Applicants: NextEra Energy Transmission MidAtlantic, LLC, Rochelle Municipal Utilities, PJM Interconnection, L.L.C.

Description: § 205(d) Rate Filing: Revisions to OATT to reflect NextEra acquisition of the RMU Transmission System to be effective 12/31/9998.

Filed Date: 6/29/18.

Accession Number: 20180629-5243.

Comments Due: 5 p.m. ET 7/20/18.

Docket Numbers: ER18-1903-000.

Applicants: NextEra Energy Transmission MidAtlantic, LLC, Rochelle Municipal Utilities, PJM Interconnection, L.L.C.

Description: § 205(d) Rate Filing: Revisions to the CTOA RE NextEra Acquisition of RMU Transmission System to be effective 12/31/9998.

Filed Date: 6/29/18.

Accession Number: 20180629-5244.

Comments Due: 5 p.m. ET 7/20/18.

Docket Numbers: ER18-1904-000.

Applicants: Southwest Power Pool, Inc.

Description: § 205(d) Rate Filing: 2646R6 Kansas Municipal Energy Agency NITSA NOA to be effective 6/1/2018.

Filed Date: 6/29/18.

Accession Number: 20180629-5245.

Comments Due: 5 p.m. ET 7/20/18.

Docket Numbers: ER18-1905-000.

Applicants: PJM Interconnection, L.L.C.

Description: § 205(d) Rate Filing: Revisions to the PJM Tariff RE GDECS Standard Format Clean-Ups to be effective 9/1/2018.

Filed Date: 6/29/18.

Accession Number: 20180629-5246.

Comments Due: 5 p.m. ET 7/20/18.

Docket Numbers: ER18-1906-000.

Applicants: Entergy Arkansas, LLC.

Description: Baseline eTariff Filing: EAL MBR Application to be effective 12/31/9998.

Filed Date: 6/29/18.

Accession Number: 20180629-5250.

Comments Due: 5 p.m. ET 7/20/18.

Docket Numbers: ER18-1907-000.

Applicants: Entergy Mississippi, LLC.

Description: Baseline eTariff Filing: EML MBR Application to be effective 12/31/9998.

Filed Date: 6/29/18.

Accession Number: 20180629-5254.

Comments Due: 5 p.m. ET 7/20/18.

Docket Numbers: ER18-1908-000.

Applicants: NorthWestern Corporation.

Description: Tariff Cancellation: Notice of Cancellation: SA 818 PTP TSA with Energy Keepers, Inc. to be effective 9/1/2018.

Filed Date: 6/29/18.

Accession Number: 20180629-5256.

Comments Due: 5 p.m. ET 7/20/18.

Docket Numbers: ER18-1909-000.

Applicants: NorthWestern Corporation.

Description: § 205(d) Rate Filing: SA 850—PTP TSA with Energy Keepers, Inc. to be effective 9/1/2018.

Filed Date: 6/29/18.

Accession Number: 20180629-5257.

Comments Due: 5 p.m. ET 7/20/18.

Docket Numbers: ER18-1910-000.

Applicants: New England Power Pool Participants Committee.

Description: § 205(d) Rate Filing: July 2018 Membership Filing to be effective 7/1/2018.

Filed Date: 6/29/18.

Accession Number: 20180629-5262.

Comments Due: 5 p.m. ET 7/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2018.
Kimberly D. Bose,
Secretary.

[FR Doc. 2018-14764 Filed 7-10-18; 8:45 am]

BILLING CODE 6717-01-P